DEPARTMENT OF COMMERCE

International Trade Administration

[A-489-829]

Steel Concrete Reinforcing Bar From the Republic of Turkey: Final Results of Antidumping Duty Administrative Review and Final Determination of No Shipments; 2020-2021

AGENCY: Enforcement and Compliance, International Trade Administration, Department of Commerce.

SUMMARY: The U.S. Department of Commerce (Commerce) determines that producers or exporters of steel concrete reinforcing bar (rebar) from the Republic of Turkey (Turkey) subject to this review made sales of subject merchandise at less than normal value (NV) during the period of review (POR) July 1, 2020, through June 30, 2021. Additionally, we find that one company made no shipments of subject merchandise to the United States during the POR.

DATES: Applicable February 7, 2023.

FOR FURTHER INFORMATION CONTACT: Robert Copyak, AD/CVD Operations, Office VII, Enforcement and Compliance, International Trade Administration, U.S. Department of Commerce, 1401 Constitution Avenue NW, Washington, DC 20230; telephone: (202) 482-3642.

SUPPLEMENTARY INFORMATION:

Background

On August 5, 2022, Commerce published the Preliminary Results and invited interested parties to comment.¹ These final results cover six companies for which an administrative review was initiated.² We selected two companies for individual examination: (1) Colakoglu Metalurji A.S. (Colakoglu Metal)/Colakoglu Dis Ticaret A.S. (COTAS) (collectively, Colakoglu); ³ and (2) Kaptan Demir Celik Endustrisi ve Ticaret A.S. (Kaptan Demir)/Kaptan Metal Dis Ticaret Ve Nakliyat A.S. (Kaptan Metal) (collectively, Kaptan).⁴ For a complete description of the events that followed the Preliminary Results, see the Issues and Decision Memorandum.⁵ Commerce conducted this review in accordance with section 751(a) of the Tariff Act of 1930, as amended (the Act).

¹ See Steel Concrete Reinforcing Bar from the Republic of Turkey: Preliminary Results of Antidumping Duty Administrative Review and Preliminary Determination of No-Shipments; 2020-2021, 87 FR 47975, (August 5, 2022) (Preliminary Results), and accompanying Preliminary Decision Memorandum.

² See Initiation of Antidumping and Countervailing Duty Administrative Reviews, 86 FR 50034 (September 7, 2021).

³ We collapsed Colakoglu and COTAS in the 2019-2020 administrative review. See Steel Concrete Reinforcing Bar from the Republic of Turkey: Final Results of Antidumping Duty Administrative Review and Final Determination of No Shipments; 2019-2020, 87 FR 7118, 7119 (February 8, 2022) (Rebar from Turkey 2019-2020). Because there is no information on the record of this administrative review that would lead us to revisit this determination, we are continuing to treat these companies as a single entity for the purposes of this administrative review.

⁴ We collapsed Kaptan Demir and Kaptan Metal in the 2019-2020 administrative review. See Rebar from Turkey 2019-2020, 87 FR at 7119. Because there is no information on the record of this administrative review that would lead us to revisit this determination, we are continuing to treat these companies as a single entity for the purposes of this administrative review.

⁵ See Memorandum, “Issues and Decision Memorandum for the Final Results of the Administrative Review of the Antidumping Duty Order on Steel Concrete Reinforcing Bar from Turkey, 2020-2021,” dated concurrently with, and hereby adopted by, this notice (Issues and Decision Memorandum).

Scope of the Order ⁶

⁶ See Steel Concrete Reinforcing Bar from the Republic of Turkey and Japan: Amended Final Affirmative Antidumping Duty Determination for the Republic of Turkey and Antidumping Duty Orders, 82 FR 32532 (July 14, 2017), as amended by Steel Concrete Reinforcing Bar from the Republic of Turkey: Notice of Court Decision Not in Harmony With the Amended Final Determination in the Less-Than-Fair-Value Investigation; Notice of Amended Final Determination, 87 FR 934 (January 22, 2022) (Order).

The product covered by the Order is steel concrete reinforcing bar from Turkey. For a full description of the scope, see the Issues and Decision Memorandum.⁷

⁷ See Issues and Decision Memorandum.

Analysis of Comments Received

We addressed all issues raised in the case and rebuttal briefs in the Issues and Decision Memorandum. A list of these issues is attached in an appendix to this notice. The Issues and Decision Memorandum is a public document and is available electronically via Enforcement and Compliance's Antidumping and Countervailing Duty Centralized Electronic Services System (ACCESS). ACCESS is available to registered users at http://access.trade.gov. In addition, a complete version of the Issues and Decision Memorandum can be accessed directly at https://access.trade.gov/public/FRNoticesListLayout.aspx.

Changes Since the Preliminary Results

Based on our analysis of the comments received from interested parties, a review of the record, and for the reasons explained in the Issues and Decision Memorandum, we made certain changes to the preliminary weighted-average dumping margin calculations for Colakoglu and Kaptan, as detailed in the Issues and Decision Memorandum.⁸

⁸ Id. at 4.

Final Determination of No Shipments

For the Preliminary Results, we found that Habas Sinai ve Tibbi Gazlar Istihsal Endüstrisi A.S (Habas) did not have any shipments of subject merchandise during the POR. No party commented on this preliminary determination. For the final results of the review, we continue to find that Habas made no shipments of subject merchandise during the POR. As noted in the “Assessment Rates” section below, Commerce intends to issue appropriate instructions to U.S. Customs and Border Protection (CBP) for Habas based on the final results of the review.

Rate for Non-Selected Respondents

Generally, Commerce looks to section 735(c)(5) of the Act, which provides instructions for calculating the all-others rate in a market economy investigation, for guidance for calculating the rate for companies which were not selected for individual examination in an administrative review. Under section 735(c)(5)(A) of the Act, the all-others rate is normally “an amount equal to the weighted-average of the estimated weighted-average dumping margins established for exporters and producers individually investigated, excluding any zero or de minimis margins, and any margins determined entirely {on the basis of facts available}.”

In this review, we calculated a weighted-average dumping margin of 1.13 percent for Colakolgu and a weighted-average dumping margin of 5.51 percent for Kaptan. With two respondents under individual examination, Commerce normally calculates: (A) a weighted-average of the estimated dumping rates calculated for the examined respondents; (B) a simple average of the estimated dumping rates calculated for the examined respondents; and (C) a weighted-average of the estimated dumping rates calculated for the examined respondents using each company's publicly-ranged U.S. sale values for the merchandise under consideration. Commerce then compares (B) and (C) to (A) and selects the rate closest to (A) as the most appropriate rate for all other producers and exporters.⁹

⁹ See, e.g., Ball Bearings and Parts Thereof from France, Germany, Italy, Japan, and the United Kingdom: Final Results of Antidumping Duty Administrative Reviews, Final Results of Changed-Circumstances Review, and Revocation of an Order in Part, 75 FR 53661, 53663 (September 1, 2010).

Consistent with our practice, we have determined that 3.76 percent, which is the weighted-average of Colakoglu and Kaptan's margins based on publicly ranged data, will be assigned to the non-examined companies under section 735(c)(5)(A) of the Act.¹⁰ These companies are Diler Dis Ticaret A.S., Icdas Celik Enerji Tersane ve Ulasim, and Sami Soybas Demir Sanayi ve Tiscaret A.S.

¹⁰ For a complete analysis of the data, see Memorandum, “Calculation of the Cash Deposit Rate for Non-Selected Companies,” dated concurrently with this notice (Non-Selected Companies Memorandum).

Final Results of Review

We determine that following weighted-average dumping margins exist for the period July 1, 2020, through June 30, 2021:

Producers/exporters | Weighted- average dumping margin (percent)
Colakoglu Metalurji A. S./Colakoglu Dis Ticaret A.S. (COTAS) | 1.13
Kaptan Demir Celik Endustrisi ve Ticaret A.S./Kaptan Metal Dis Ticaret Ve Nakliyat A.S | 5.51
Review-Specific Average Rate Applicable to the Following Companies ¹¹
Diler Dis Ticaret A.S | 3.76
Icdas Celik Enerji Tersane ve Ulasim Sanayi A.S | 3.76
Sami Soybas Demir Sanayi ve Tiscaret A.S | 3.76

Disclosure

¹¹ This rate is based on the rates for the respondents that were selected for individual review, excluding rates that are zero, de minimis, or based entirely on facts available. See section 735(c)(5)(A) of the Act; see also Non-Selected Companies Memorandum.

Commerce intends to disclose the calculations performed in connection with these final results of review to parties in this review within five days after public announcement of the final results or, if there is no public announcement, within five days of the date of publication of this notice in the Federal Register, in accordance with 19 CFR 351.224(b).

Assessment Rates

Commerce shall determine and CBP shall assess antidumping duties on all appropriate entries of subject merchandise in accordance with the final results of this review. For Colakoglu and Kaptan, we calculated importer-specific assessment rates on the basis of the ratio of the total amount of dumping calculated for each importer's examined sales and the total entered value of those sales in accordance with 19 CFR 351.212(b)(1). Where an importer-specific assessment rate is de minimis (i.e., less than 0.5 percent), the entries by that importer will be liquidated without regard to antidumping duties. For entries of subject merchandise during the POR produced by Colakoglu or Kaptan for which the producer did not know its merchandise was destined for the United States, we will instruct CBP to liquidate unreviewed entries at the all-others rate if there is no rate for the intermediate company(ies) involved in the transaction.¹² For the companies identified above that were not selected for individual examination, we will instruct CBP to liquidate entries at the rates established in these final results of review.

¹² See Antidumping and Countervailing Duty Proceedings: Assessment of Antidumping Duties, 68 FR 23954 (May 6, 2003) (Assessment of Antidumping Duties).

As indicated above, for Habas, which we determined had “no shipments” of the subject merchandise during the POR, we will instruct CBP to liquidate all POR entries associated with this company at the all-others rate if there is no rate for the intermediate company(ies) involved in the transaction, consistent with Commerce's reseller policy.¹³

¹³ For a full discussion of this practice, see Assessment of Antidumping Duties.

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following deposit requirements for estimated antidumping duties will be effective upon publication of this notice for all shipments of the subject merchandise entered, or withdrawn from warehouse, for consumption on or after the publication date of the final results of this administrative review, as provided by section 751(a)(2)(C) of the Act: (1) the cash deposit rate for the companies under review will be the rate established in the final results of this review; (2) for merchandise exported by producers or exporters not covered in this review but covered in a prior completed segment of the proceeding, the cash deposit rate will continue to be the company-specific rate published in the completed segment for the most recent period; (3) if the exporter is not a firm covered in this review, a prior review, or the original investigation, but the producer is, then the cash deposit rate will be the rate established in the completed segment for the most recent period for the producer of the merchandise; and (4) the cash deposit rate for all other producers or exporters will continue to be 3.90 percent, the all-others rate established in the investigation.¹⁴

¹⁴ See Order, 87 FR at 935.

These cash deposit instructions, when imposed, shall remain in effect until further notice.

Notification to Importers

This notice serves as a final reminder to importers of their responsibility under 19 CFR 351.402(f)(2) to file a certificate regarding the reimbursement of antidumping duties prior to liquidation of the relevant entries during this POR. Failure to comply with this requirement could result in Commerce's presumption that reimbursement of antidumping duties occurred and the subsequent assessment of doubled antidumping duties.

Notification to Interested Parties Regarding Administrative Protective Orders

This notice also serves as a reminder to parties subject to administrative protective order (APO) of their responsibility concerning the destruction or return of proprietary information disclosed under APO in accordance with 19 CFR 351.305(a)(3), which continues to govern business proprietary information in this segment of the proceeding. Timely written notification of the destruction or return of APO materials or conversion to judicial protective order is hereby requested. Failure to comply with the regulations and terms of an APO is a sanctionable violation.

We are issuing and publishing this notice in accordance with sections 751(a)(1) and 777(i)(1) of the Act and 19 CFR 351.221(b)(5).

Dated: February 1, 2023.
Lisa W. Wang,
Assistant Secretary for Enforcement and Compliance.

Appendix—List of Topics Discussed in the Issues and Decision Memorandum

I. Summary

II. Background

III. Scope of the Order

IV. Companies Not Selected for Individual Examination

V. Changes Since the Preliminary Results

VI. Discussion of the Issues

Comment 1: Whether Commerce Should Use Invoice Date as the U.S. Date of Sale

Comment 2: Whether Section 232 Duties Should be Deducted from Export Price

Comment 3: Whether Colakoglu's Section 232 Payments Should Be Set to 25 Percent of Gross Unit Price

Comment 4: Whether Commerce Should Revise Kaptan's U.S. Duty Drawback Adjustment

Comment 5: Whether Commerce Should Revise Colakoglu's U.S. Duty Drawback Adjustment

Comment 6: Whether Commerce Should Include in Its Calculations Certain Sales Made by Kaptan

Comment 7: Whether Commerce Should Continue to Rely on the Cost Methodologies Applied in the Preliminary Results

Comment 8: Whether Commerce Should Revise Its Percent Change Comparison Calculation for Colakoglu

Comment 9: Whether Commerce Should Correct Its Exempted Duty Drawback Cost Calculation for Colakoglu

Comment 10: Whether Commerce Should Correct Its Exempted Duty Drawback Cost Calculation for Kaptan

Comment 11: Whether Commerce Should Permit an Offset to Colakoglu's General and Administrative (G&A) Expenses

Comment 12: Whether Commerce Should Revise Kaptan's Reported G&A Ratio

VII. Recommendation

[FR Doc. 2023-02592 Filed 2-6-23; 8:45 am]

BILLING CODE 3510-DS-P